DEPARTMENT OF COMMERCE

International Trade Administration

Environmental Technologies Trade Advisory Committee (ETTAC)

AGENCY: International Trade Administration, U.S. Department of Commerce.

ACTION: Notice of open meeting.

Date: February 8, 2001.

Time: 9:00 a.m. to 3:30 p.m.

Place: Room 3407, U.S. Department of Commerce, 14th Street and Constitution Avenue, NW, Washington, DC 20230.

SUMMARY: The Environmental Technologies Trade Advisory Committee will hold a plenary meeting on February 8, 2001, in Room 3407 of the U.S. Department of Commerce.

During the morning, the ETTAC will hear reports on cross-cutting trade and environment issues including those at issue in the U.S.-Jordan, and U.S. Singapore free trade agreements negotiations and the Free Trade Agreement of the Americas. The ETTAC will also hear a report from its Government Resources Subcommittee and review past initiatives. In the afternoon, the ETTAC will conduct a strategic planning session.

The ETTAC is mandated by Public Law 103-392). It was created to advise on the environmental trade policies and programs of the U.S. Government and to help it to focus its resources on increasing the exports of the U.S. environmental industry. The ETTAC operates as an advisory committee to the Secretary of Commerce and the interagency Environmental Trade Working Group (ETWG) of the Trade Promotion Coordinating Committee (TPCC). The ETTAC was originally chartered in May of 1994. It was most recently rechartered until May 30, 2002. The ETTAC was created on May 31, 1994, to advise the U.S. government on policies and programs to expand U.S. exports of environmental products and services.

For further information phone Jane Siegel, Office of Technologies Industries, (ETI), U.S. Department of Commerce at (202) 482-5225. This meeting is physically accessible to people with disabilities. Requests for sign language interpretation or other auxiliary aids should be directed to ETI.

Dated: January 12, 2001.
Carlos F. Montoulieu,
Deputy Assistant Secretary.

[FR Doc. 01-1602 Filed 1-19-01; 8:45 am]

BILLING CODE 3510-DR-U